ENVIRONMENTAL PROTECTION AGENCY

[FRL-9271-2; Docket ID No. EPA-HQ-ORD-2011-0187]

Aquatic Ecosystems, Water Quality, and Global Change: Challenges of Conducting Multi-Stressor Vulnerability Assessments

AGENCY: Environmental Protection Agency (EPA).

ACTION: Notice of public comment period.

SUMMARY: EPA is announcing the release of the draft report titled, “Aquatic Ecosystems, Water Quality, and Global Change: Challenges of Conducting Multi-stressor Vulnerability Assessments” (EPA/600/R-11/011) and a 45-day public comment period for the report. The document was prepared by the National Center for Environmental Assessment within EPA's Office of Research and Development.

This draft report investigates the issues and challenges associated with identifying, calculating, and mapping indicators of the relative vulnerability of water quality and aquatic ecosystems, across the United States, to the potential impacts of global change. Using a large set of environmental indicators drawn from the scientific and management literature, this draft report explores the conceptual and practical challenges associated with using such indicators to assess how the resilience of ecosystems and human systems may vary as a function of existing stresses and maladaptations.

The public comment period and the external peer review are separate processes that provide opportunities for all interested parties to comment on the document. EPA intends to forward the public comments that are submitted in accordance with this notice to the external peer reviewers for their consideration prior to the finalization of their review comments. When finalizing the draft document, EPA intends to consider any public comments that EPA receives in accordance with this notice.

EPA is releasing this draft document solely for the purpose of pre-dissemination peer review under applicable information quality guidelines. This document has not been formally disseminated by EPA. It does not represent and should not be construed to represent any Agency policy or determination.

The draft document and EPA's peer review charge are available via the Internet on the NCEA home page under the Recent Additions and the Data and Publications menus at http://www.epa.gov/ncea.

DATES: The 45-day public comment period begins February 28, 2011, and ends April 14, 2011. Technical comments should be in writing and must be received by EPA by April 14, 2011.

ADDRESSES: The draft “Aquatic Ecosystems, Water Quality, and Global Change: Challenges of Conducting Multi-stressor Vulnerability Assessments” is available primarily via the Internet on the National Center for Environmental Assessments home page under the Recent Additions and the Data and Publications menus at http://www.epa.gov/ncea. A limited number of paper copies are available from the Information Management Team, NCEA; telephone: 703-347-8561; facsimile: 703-347-8691. If you are requesting a paper copy, please provide your name, your mailing address, and the document title, “Aquatic Ecosystems, Water Quality, and Global Change: Challenges of Conducting Multi-stressor Vulnerability Assessments.” The EPA's National Service Center for Environmental Publications (NSCEP), P.O. Box 42419, Cincinnati, OH 45242; telephone: 1-800-490-9198; facsimile: 301-604-3408; e-mail: nscep@bps-lmit.com. Please provide your name, your mailing address, the title, and the EPA number of the requested publication.

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Chris Weaver, NCEA; telephone: 703-347-8621; facsimile: 703-347-8694; or e-mail: weaver.chris@epa.gov.

SUPPLEMENTARY INFORMATION:

I. Information About the Project/Document

This draft report investigates the issues and challenges associated with identifying, calculating, and mapping indicators of the relative vulnerability of water quality and aquatic ecosystems, across the United States, to the potential adverse impacts of external forces such as long-term climate and land-use change. The draft does not directly evaluate the potential impacts of global change on ecosystems and watersheds. Rather, it explores the implications of the assumption that a systematic evaluation of the impacts of existing stressors will be a key input to any comprehensive global change vulnerability assessment, as the impacts of global change will be expressed via (perhaps complex) interactions with such stressors. This is an assumption with an impressive pedigree, but, to date, there has been relatively little exploration of the practical challenges associated with assessing how the resilience of ecosystems and human systems in the face of global change may vary as a function of existing stresses and maladaptations. The work described in this draft report is a preliminary attempt at such an exploration.

This draft report takes as its starting point more than 600 indicators of water quality and aquatic ecosystem condition, along with numerous datasets from EPA, other Federal agencies, and other organizations, as a testbed for identifying challenges and best practices (as well as gaps in ideas, methods, data, and tools) for calculating and mapping vulnerability nationally. Specifically:

• Challenges associated with identifying those indicators that speak specifically to “vulnerability” as opposed to those reflecting simply a state or condition;

• Challenges associated with calculating and estimating the values of these vulnerability indicators, including establishing important indicator thresholds that reflect abrupt or large changes in the vulnerability of water quality or aquatic ecosystems;

• Challenges associated with mapping these vulnerability indicators nationally, including data availability and spatial aggregation of the data;

• Challenges associated with combining and compositing indicators and developing multi-indicator indices of vulnerability.

This draft report is intended to be one building block for future work on multi-stressor global change vulnerability assessments. It is hoped that it will contribute to improved links between the decision support needs of the water quality and aquatic ecosystem management communities and the priorities and capabilities of the global change science data and modeling communities.

II. How To Submit Technical Comments to the Docket at http://www.regulations.gov

Submit your comments, identified by Docket ID No. EPA-HQ-ORD 2011-0187, by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center's Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2011-0187. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: February 17, 2011.
Rebecca Clark,
Acting Director, National Center for Environmental Assessment.

[FR Doc. 2011-4375 Filed 2-25-11; 8:45 am]

BILLING CODE 6560-50-P